DEPARTMENT OF COMMERCE

Foreign-Trade Zones Board

[Docket 70-2010]

Foreign-Trade Zone 158—Vicksburg/Jackson, MI, Application for Expansion

An application has been submitted to the Foreign-Trade Zones Board (the Board) by the Greater Mississippi Foreign-Trade Zone, Inc. (grantee of FTZ 158), requesting authority to expand FTZ 158-Site 8 in Senatobia, Mississippi. The application was submitted pursuant to the provisions of the Foreign-Trade Zones Act, as amended (19 U.S.C. 81a-81u), and the regulations of the Board (15 CFR part 400). It was formally filed on December 14, 2010.

FTZ 158 was established by the Board on April 11, 1989 (Board Order 430, 54 FR 15480, 4/18/89), and expanded on October 23, 1994 (Board Order 707, 59 FR 54885, 11/2/94), and on March 8, 2005 (Board Order 1378, 70 FR 13449, 3/21/05). The zone currently consists of 17 sites (8,645 acres total): Site 1 (353 acres)—Emmitte W. Haining Industrial Center, Warren County; Site 2 (2,242 acres)—within the Jackson International Airport complex, Jackson; Site 3 (1,286 acres)—Ceres Research and Industrial Interplex on I-20, Warren County; Site 4 (230 acres)—Vicksburg Airport Industrial Park, Vicksburg; Site 5 (544 acres)—Greater Jackson Industrial Center on I-55, south of Jackson in Hinds County; Site 6 (559 acres)—Hawkins Field Industrial Park, south of I-220/U.S. 49 Interchange, Jackson; Site 7 (350 acres)—Northwest Industrial Park, one mile north of I-220/U.S. 49 Interchange, north of Jackson in Hinds County; Site 8 (39 acres)—within the Senatobia Industrial Park, located at the intersection of Shands Bottom Road and Scott Street Extension, adjacent to Interstate Highway 55, Senatobia; Site 9 (64 acres, 3 parcels)—within the Greenville Industrial Park at 1265 Wasson Drive (17 acres), at 1945 N. Theobald Street (20 acres) and at 1795 N. Theobald Street (26 acres), Greenville; Site 10 (989 acres, sunset 3/31/2012)—within the 1,479-acre Airport Industrial Park, located adjacent to the Tupelo Regional Airport, Tupelo; Site 11 (277 acres, sunset 3/31/2012)—within the 403-acre South Green Industrial complex located adjacent to U.S. Highway 45 and the Kansas City Southern Railroad and South Green Street, Tupelo; Site 12 (5 acres, sunset 3/31/2012)—within the 36-acre South Green Extend Industrial Complex located along South Green Street immediately west of South Gloster Street (MS 145), Tupelo; Site 13 (56 acres, sunset 3/31/2012)—within the 164-acre Tupelo Industrial Center located at the intersection of Eason Boulevard and the Burlington Northern Railroad, Tupelo; Site 14 (128 acres, sunset 3/31/2012)—within the 990-acre Burlington Northern Industrial Park located along the Burlington Northern Railroad and U.S. Highway 78 (I-22) and MS Highway 178 interchange, City of Tupelo/Lee County; Site 15 (699 acres, sunset 3/31/2012)—within the 1,315-acre Harry A. Martin North Lee Industrial Complex located at the intersection of U.S. Highway 45 and Pratts Road, City of Baldwyn/Lee County; Site 16 (284 acres, sunset 3/31/2012)—within the 429-acre Turner Industrial Park located at the U.S. Highway 45 and MS Highway 145 interchange adjacent and south of the City of Saltillo; and, Site 17 (540 acres, sunset 3/31/2012)—within the 1,066-acre Tupelo Lee Industrial Park South located at the U.S. Highway 45 and Brewer Road interchange south of the City of Verona.

The applicant is requesting authority to expand existing Site 8 to include an additional 345 acres within the Senatobia Industrial Park (new site total—384 acres). The expanded site will provide warehousing and distribution services to area businesses. No specific manufacturing authority is being requested at this time. Such requests would be made to the Board on a case-by-case basis.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is February 18, 2011. Rebuttal comments in response to material submitted during the foregoing period may be submitted during the subsequent 15-day period to March 7, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Camille Evans at Camille.Evans@trade.gov or (202) 482-2350.

Dated: December 14, 2010.
Andrew McGilvray,
Executive Secretary.

[FR Doc. 2010-31877 Filed 12-17-10; 8:45 am]

BILLING CODE P